DEPARTMENT OF COMMERCE

International Trade Administration

Ohio State University, et al.; Notice of Consolidated Decision on Applications for Duty-Free Entry of Electron Microscope

This is a decision consolidated pursuant to Section 6(c) of the Educational, Scientific, and Cultural Materials Importation Act of 1966 (Pub. L. 89-651, as amended by Pub. L. 106-36; 80 Stat. 897; 15 CFR part 301). Related records can be viewed between 8:30 a.m. and 5 p.m. in Room 3720, U.S. Department of Commerce, 14th and Constitution Avenue, NW., Washington, DC.

Docket Number: 11-047. Applicant: Ohio State University, Columbus, OH 43210. Instrument: Electron Microscope. Manufacturer: FEI Company, Czech Republic. Intended Use: See notice at 76 FR 50997, August 17, 2011.

Docket Number: 11-050. Applicant: Southwest Research Institute, San Antonio, TX 78239-5166. Instrument: Electron Microscope. Manufacturer: FEI Company, Czech Republic. Intended Use: See notice at 76 FR 50997, August 17, 2011.

Docket Number: 11-052. Applicant: Southern University and A&M College, Baton Rouge, LA 70813. Instrument: Electron Microscope. Manufacturer: JEOL, Japan. Intended Use: See notice at 76 FR 50997, August 17, 2011.

Docket Number: 11-053. Applicant: University of Texas Health Science Center-Houston, Houston, TX 77303. Instrument: Electron Microscope. Manufacturer: JEOL, Japan. Intended Use: See notice at 76 FR 50997, August 17, 2011.

Docket Number: 11-054. Applicant: Battelle Energy Alliance, Idaho National Laboratory, Idaho Falls, ID 83415. Instrument: Electron Microscope. Manufacturer: FEI Company, Czech Republic. Intended Use: See notice at 76 FR 50997, August 17, 2011.

Docket Number: 11-055. Applicant: University of Washington, Seattle, WA 98195. Instrument: Electron Microscope. Manufacturer: FEI Company, the Netherlands. Intended Use: See notice at 76 FR 50997, August 17, 2011.

Comments: None received. Decision: Approved. No instrument of equivalent scientific value to the foreign instrument, for such purposes as these instruments are intended to be used, was being manufactured in the United States at the time the instrument were ordered. Reasons: Each foreign instrument is an electron microscope and is intended for research or scientific educational uses requiring an electron microscope. We know of no electron microscope, or any other instrument suited to these purposes, which was being manufactured in the United States at the time of order of each instrument.

Dated: September 14, 2011.
Gregory W. Campbell,
Director, Subsidies Enforcement Office, Import Administration.

[FR Doc. 2011-24123 Filed 9-19-11; 8:45 am]

BILLING CODE 3510-DS-P